DEPARTMENT OF THE INTERIOR

Geological Survey

[GX13N05ESB0500]

Agency Information Collection Activities: Comment Request

AGENCY: U.S. Geological Survey (USGS), Interior.

ACTION: Notice of a new information collection, Registry of Climate Change Vulnerability Assessments.

SUMMARY: We (the U.S. Geological Survey) will ask the Office of Management and Budget (OMB) to approve the information collection (IC) described below. To comply with the Paperwork Reduction Act of 1995 (PRA) and as part of our continuing efforts to reduce paperwork and respondent burden, we invite the general public and other Federal agencies to take this opportunity to comment on this IC.

DATES: Submit written comments on or before October 21, 2013.

ADDRESSES: You may submit comments on this IC to the Information Collection Clearance Officer, U.S. Geological Survey, 12201 Sunrise Valley Drive, MS 807, Reston, VA 20192 (mail); (703) 648-7197 (fax); or dgovoni@usgs.gov (email). Please reference “Information Collection 1028—NEW, Registry of Climate Change Vulnerability Assessments” in the subject line.

FOR FURTHER INFORMATION CONTACT: Laura Thompson, National Climate Change and Wildlife Science Center, U.S. Geological Survey, 12201 Sunrise Valley Drive, Mail Stop 400, Reston, VA 20192 (mail); 703-648-4083 (phone); or lthompson@usgs.gov (email).

SUPPLEMENTARY INFORMATION:

I. Abstract

The USGS proposes to collect information on existing assessments of the vulnerability of various resources and societal assets to climate change (hereafter VA or “vulnerability assessments”). This information will include organization conducting the study, its location, the topical focus of the assessment, methodology and supporting data used, and point of contact information. Because many governmental and nongovernmental parties are conducting such assessments, and because their conclusions, methodologies, and related data assets may be of interest or utility to others contemplating such assessments, the USGS will make the information collected available on the Web in the form of a simple registry-type database. Users, including the general public, scientists, resource management agencies, and others will be able to search the database by various keywords of interest.

II. Data

OMB Control Number: 1028—NEW.

Title: Registry of Climate Change Vulnerability Assessments.

Type of Request: New information collection.

Affected Public: Federal agencies, state, tribal and nongovernmental partners, individual scientists, and others involved in the conduct of climate change vulnerability assessments.

Respondent's Obligation: None (participation is voluntary).

Frequency of Collection: This information will be collected initially and reviewed at least annually. All listed Registry projects will be contacted and requested to update their information; Federal agencies participating in the Registry will conduct “data calls” according to agency practice to identify new agency projects, and external partners will be reminded via Web posting and community-of-practice networking that new projects may be added to the Registry. Additional entries may be added at any time, as information becomes available.

Estimated Total Number of Annual Responses: Approximately 1360 responses (i.e., additions to the registry) are expected in the initial data collection phase (first year), including approximately 1200 from Federal organizations and approximately 160 state/local, tribal, and nongovernmental organizations. In subsequent years, annual additions to the registry are expected to be 100 or fewer.

Estimated Time per Response: We estimate that it will take one hour per person to document a single assessment project for inclusion in the registry. In future years, reviewing project information to ensure currency or identifying new projects is expected to require de minimis effort.

Estimated Annual Burden Hours: 1360 in year one and less than 100 in each subsequent year.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until OMB approves a collection of information, you are not obligated to respond.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: August 15, 2013.
Thomas D. Beard, Jr.,
Chief, National Climate Change and Wildlife Science Center, U.S. Geological Survey.

[FR Doc. 2013-20361 Filed 8-20-13; 8:45 am]

BILLING CODE 4311-AM-P